DEPARTMENT OF AGRICULTURE

Farm Service Agency

U.S. Warehouse Act Fees

AGENCY: Farm Service Agency, USDA.

ACTION: Notice.

SUMMARY: This notice sets forth a schedule increasing the annual operational fee warehouse operators are charged under the United States Warehouse Act (USWA). This action is needed to increase revenue to cover operational costs projected for operations under the USWA in fiscal year 2006. This notice does not change any of the other various license or inspection fees charged under the USWA.

DATE: Effective Date: January 1, 2006.

FOR FURTHER INFORMATION CONTACT: Roger Hinkle, USWA Program Manager, Warehouse and Inventory Division, Farm Service Agency (FSA), United States Department of Agriculture (USDA), 1400 Independence Avenue, SW., STOP 0553, Washington, DC 20250-0553, telephone: (202) 720-7433; FAX: (202) 690-3123; e-mail: Roger.Hinkle@usda.gov. Persons with disabilities who require alternative means for communication (Braille, large print, audiotape, etc.) should contact USDA's TARGET Center at (202) 720-2600 (voice and TDD).

SUPPLEMENTARY INFORMATION: The Secretary of Agriculture has the authority to license public warehouses and assess warehouse operator fees under the USWA (7 U.S.C. 241 et seq.) Warehouse operators licensed under the USWA understand that fees will be imposed to cover the costs of administering the program. Specifically, section 4 of the USWA (7 U.S.C. 243) and the regulations issued pursuant to the USWA, located at 7 CFR part 735, mandate the imposition of fees for USWA-licensed warehouses. The USWA provides for licensing of public warehouse operators that are in the business of storing agricultural products; examination of such federally-licensed warehouses, issuance of regulations governing the establishment and maintenance of electronic systems, and collection of fees to sustain the USWA warehouse licensing and examination programs. FSA is raising USWA annual operational fees charged to licensed warehouses in order to assure the recovery of operational costs projected for USWA activities in fiscal year 2006. The fiscal year 2006 fee adjustment reflects a 5.0 percent increase in the annual fees. Other license and inspection fees charged under the USWA are not currently being increased.

USWA fees vary by type of warehouse and were last amended effective October 1, 2000, (65 FR 39347, June 26, 2000). None of the fee increases for any particular type of warehouse exceeded 2.0 percent, and such fees varied based on FSA's direct costs with respect to warehouse examinations for that type of warehouse. The schedule below sets out all of the relevant fees and charges for licensing and examination and reflects the increased annual fees noted above.

USWA Schedule for License, Inspection and Annual Operational Fees To Be Paid by Warehouse Operators

Warehouse and Service License Fees

The fee for original issuance, reissuance, or duplication of a license for cotton, grain, tobacco, wool, dry beans, nut, sweeteners, and cottonseed is $80 for each license issued. The fee charged to license individuals to inspect, sample, grade, classify, or weigh commodities is $35 for each service license issued.

Warehouse Annual and Inspection Fees

These fees are shown in the following tables by agricultural product. Inspection fees are assessed for each original examination or inspection, or reexamination or reinspection for modification of an existing license. Annual fees are assessed independently of the inspection and license fees set forth in the preceding paragraph.

Cotton
[In bales]
Licensed capacity | Annual fee for each warehouse location with a CCC storage agreement | Annual fee for each warehouse location without a CCC storage agreement
1-20,000 | $585 | $1,170
20,001-40,000 | 770 | 1,540
40,001-60,000 | 940 | 1,880
60,001-80,000 | 1,180 | 2,360
80,001-100,000 | 1,470 | 2,940
100,001-120,000 | 1,760 | 3,520
120,001-140,000 | 2,055 | 4,110
140,001-160,000 | 2,350 | 4,700
160,001+ | * 2,350 | ** 4,700
* Plus $60 per 5,000 bale capacity above 160,000 bales or fraction thereof.
** Plus $115 per 5,000 bale capacity above 160,000 bales or fraction thereof.

Inspection fees will be charged at the rate of $17 for each 1,000 bales of licensed capacity, or fraction thereof, but in no case less than $170 nor more than $1,700.

Grain
[In bushels]
Licensed capacity | Annual fee for each warehouse location with a CCC storage agreement | Annual fee for each warehouse location without a CCC storage agreement
1-150,000 | $155 | $310
150,001-250,000 | 310 | 620
250,001-500,000 | 455 | 910
500,001-750,000 | 615 | 1,230
750,001-1,000,000 | 765 | 1,530
1,000,001-1,200,000 | 920 | 1,840
1,200,001-1,500,000 | 1,070 | 2,140
1,500,001-2,000,000 | 1,220 | 2,440
2,000,001-2,500,000 | 1,375 | 2,750
2,500,001-5,000,000 | 1,525 | 3,050
5,000,001-7,500,000 | 1,685 | 3,370
7,500,001-10,000,000 | 1,840 | 3,680
10,000,001+ | * 1,840 | ** 3,680
* Plus $50 per million bushels above 10,000,000 or fraction thereof.
** Plus $95 per million bushels above 10,000,000 or fraction thereof.

Inspection fees will be charged at the rate of $17 for each 10,000 bushels of licensed capacity, or fraction thereof, but in no case less than $170 nor more than $1,700.

Nuts
[In short tons]
Licensed capacity | Annual fee for each warehouse location with a CCC storage agreement | Annual fee for each warehouse location without a CCC storage agreement
1-4,500 | $250 | $500
4,501-7,500 | 410 | 820
7,501-15,000 | 580 | 1,160
15,001-22,500 | 745 | 1,490
22,501-30,000 | 905 | 1,810
30,001-36,000 | 1,060 | 2,120
36,001-45,000 | 1,220 | 2,440
45,001-60,000 | 1,375 | 2,750
60,001-75,000 | 1,535 | 3,070
75,001-150,000 | 1,690 | 3,380
150,001-225,000 | 1,840 | 3,680
225,001+ | * 1,995 | ** 3,990
* Plus $11 per 100 short tons above 225,000 short tons or fraction thereof.
** Plus $19 per 100 short tons above 225,000 short tons or fraction thereof.

Inspection fees will be charged at the rate of $8.50 for each 100 short tons of licensed capacity, or fraction thereof of peanuts and $15 for each 1,000 hundredweight, or fraction thereof, of other nuts, but in no case less than $170 nor more than $1,700.

Dry Beans
(In hundredweight)
Licensed capacity | Annual fee
100-90,000 | $840
90,001-150,000 | 1,170
150,001-300,000 | 1,520
300,001-450,000 | 1,855
450,001-600,000 | 2,185
600,001-720,000 | 2,515
720,001-900,000 | 2,860
900,001-1,200,000 | 3,200
1,200,001-1,500,000 | 3,525
1,500,001-3,000,000 | 3,860
3,000,001+ | * 4,200
* Plus $1.40 per 1,000 hundredweight above 3,000,000 or fraction thereof.

Inspection fees will be charged at the rate of $17 for each 1,000 hundredweight of licensed capacity, or fraction thereof, but in no case less than $170 nor more than $1,700.

Tobacco and Wool (Currently Inactive)

Annual fee: $17 for each 100,000 pounds of licensed capacity, or fraction thereof, but in no case less than $680.

Inspection fee: $17 for each 100,000 pounds of licensed capacity, or fraction thereof, but in no case less than $170 nor more than $1,700.

Sweeteners

Annual fee: $6.50 for each 5,000 gallons of liquid or 55,000 pounds of dry capacity, or fraction thereof, but in no case less than $680.

Inspection fee: $6.50 for each 5,000 gallons of liquid or 55,000 pounds of dry capacity, or fraction thereof, but in no case less than $170 nor more than $1,700.

Cottonseed

Annual fee: $17 for each 1,000 short tons of licensed capacity, or fraction thereof, but in no case less than $680.

Inspection fee: $17 for each 1,000 short tons of licensed capacity, or fraction thereof, but in no case less than $170 nor more than $1,700.

Signed in Washington, DC, on November 16, 2005.
Teresa C. Lasseter,
Administrator, Farm Service Agency.

[FR Doc. 05-23353 Filed 11-25-05; 8:45 am]

BILLING CODE 3410-05-P